DEPARTMENT OF COMMERCE

National Oceanic and Atmospheric Administration

Proposed Information Collection; Comment Request; Tortugas Access Permits

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 3, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to David Bizot, 301-713-7268 or David.Bizot@noaa.gov.

SUPPLEMENTARY INFORMATION:

I. Abstract

In order to gain access to the Tortugas ecological reserve, persons must obtain a permit. The permit holders must notify NOAA by radio no less than 30 minutes and no more than 6 hours before entering the reserve, and when leaving it. Permit actions may be appealed.

The purpose of the access permit and notifications are to (1) protect this unique deepwater coral reef and (2) facilitate the enforcement of the no-take regulations in this remote area. The overall intended effect of this collection is to protect the deepwater coral reef community in this area from being degraded by human activities.

II. Method of Collection

Applications and notifications are made by phone. Appeals must be in writing.

III. Data

OMB Number: 0648-0418.

Form Number: None.

Type of Review: Regular submission.

Affected Public: Businesses and other for-profit organizations; individuals or households; not-for-profit institutions; State, Local, or Tribal Government.

Estimated Number of Respondents: 49.

Estimated Time Per Response: 10 minutes for an application; 2 minutes for a radio call; and 90 minutes for an appeal.

Estimated Total Annual Burden Hours: 12.

Estimated Total Annual Cost to Public: $127.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 26, 2006.
Gwellnar Banks,
Management Analyst, Office of the Chief Information Officer.

[FR Doc. E6-1299 Filed 1-31-06; 8:45 am]

BILLING CODE 3510-NK-P